NEIGHBORHOOD REINVESTMENT CORPORATION

Audit Committee Meeting of the Board of Directors

Sunshine Act Meeting Notice

TIME and DATE: 3:30 p.m., Thursday, November 15, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. CALL TO ORDER

II. Executive Session with Internal Audit Director

III. Executive Session with Officers

IV. Internal Audit Report with Management's Response

V. Internal Audit Performance Scorecard

VI. Internal Audit Status Reports

VII. Internal Audit Response with Management's Response

VIII. FY 2013 Risk Assessment & Internal Audit Plan

IX. Internal Audit Performance Scorecard

X. Internal Audit Status Reports

XI. Memo—EHLP/NFMC-Quality Control Compliance/3rd Party CPA

XII. National Foreclosure Mitigation Counseling (NFMC) Compliance Update

XIII. OHTS Watch List and Overview of Organizational Assessment Review Process

XIV. Adjournment

Erica Hall,
Assistant Corporate Secretary.

[FR Doc. 2012-27862 Filed 11-13-12; 11:15 am]

BILLING CODE 7570-02-P